DEPARTMENT OF AGRICULTURE

Food and Nutrition Service

Agency Information Collection Activities: Proposed Collection; Comment Request—Repayment Demand and Program Disqualification

AGENCY: Food and Nutrition Service, USDA.

ACTION: Notice.

SUMMARY: In accordance with the Paperwork Reduction Act of 1995, this Notice invites the general public and other public agencies to comment on proposed information collections. This Notice of Proposed Information Collection announces the intent of the Food and Nutrition Service to extend the information collection requirements associated with initiating collection actions against households who have received an overissuance in the Food Stamp Program. In addition, this Notice announces the Food and Nutrition Service's intent to extend the information collection requirements associated with intentional Program violation determinations.

DATES: Written comments must be submitted on or before August 6, 2001 to be assured consideration.

ADDRESSES: Send comments to Barbara Hallman, Chief, State Administration Branch, Food and Nutrition Service, USDA, 3101 Park Center Drive, Room 820, Alexandria, Virginia, 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will become a matter of public record.

FOR FURTHER INFORMATION CONTACT: For initiating collection action, contact Susan Beard. For intentional Program violation (IPV) determination, contact Greg Fortine. Both may be reached at (703) 305-2383.

SUPPLEMENTARY INFORMATION: Title: Repayment Demand and Program Disqualification.

OMB Number: 0584-0492.

Form Number: None.

Expiration Date: August 31, 2001.

Type of Request: Revision of a currently approved collection.

Abstract: Section 13(b) of the Food Stamp Act of 1977, as amended, (7 U.S.C. 2022(b)) and Food Stamp Program (FSP) regulations at 7 CFR 273.18 require State agencies to initiate collection action against households that have been overissued benefits. To initiate collection action, State agencies need to provide an affected household with written notification informing the household of the claim and demanding repayment. This process is automated in most State agencies. For initiating collection action on an overissuance, we are reducing the estimated annual reporting and recordkeeping burden for State agencies and households from 148,846 hours to 116,400 hours. The reason for the decline is to reflect the lower number of claims that were established in fiscal year (FY) 2000.

Note that, for recipient claims, this Federal Register Notice only covers the reporting and recordkeeping burden for initiating collection action. The burden associated with reporting collections and other claims management information on the FNS-209 report is covered under currently approved OMB number 0584-0069. The burden associated with referring delinquent claims and receiving collections through the Treasury Offset Program is covered under currently approved OMB number 0584-0446.

FSP regulations at 7 CFR 273.16 require State agencies to investigate any case of suspected fraud, and, where applicable, make an IPV determination either administratively or judicially. Notifications and activity involved in the IPV process include:

• The State agency providing written notification informing an individual suspected of committing an IPV of an impending administrative disqualification hearing or court action.

• An individual opting to accept the disqualification and waiving the right to an administrative disqualification hearing or court action by signing either a waiver to an administrative disqualification hearing or a disqualification consent agreement in cases of deferred adjudication.

• Once a determination is made regarding an IPV, the State agency sends notification to the affected individual of the action taken on the administrative disqualification hearing or court decision.

Despite the decrease in FSP participation, IPV activity has not experienced a similar decline. While no discernible trend exists in recent year disqualification data, available data from FY 2000 shows a small decrease in IPV activity when compared to the data used to establish the existing burden. Therefore, we are decreasing the State agency and household annual reporting and recordkeeping burden for the activities related to IPV disqualifications from 36,628 hours to 34,254 hours.

In addition, one of the factors used by a State agency to determine the appropriate disqualification penalty to assign to an individual is whether or not the individual was found to have committed any prior IPVs. The way that State agencies make this determination is by accessing and checking the Disqualified Recipient Subsystem (DRS). DRS is an automated system developed by the Food and Nutrition Service that contains records of disqualifications in every State. State agencies are responsible for updating the system and checking it to determine the appropriate length of each disqualification. The burden associated with State use of DRS for IPVs was not included in this original OMB-approved burden. We now intend to incorporate this activity under this OMB burden number. The additional annual burden associated with the DRS process is estimated at 14,340 hours per year.

Summary of Estimated Burden

The net aggregate change from the existing to the proposed annual burden for this entire Proposed Collection is a decrease of 20,480 hours. For initiating collection action on an overissuance, we are reducing the estimated annual burden for State agencies and households from 148,846 hours to 116,400 hours to reflect the lower number of claims established in FY 2000. The IPV-related State agency and household annual burden, is being reduced from 36,628 hours to 34,254 hours to reflect the lower number of disqualifications. The additional annual burden associated with the DRS process is estimated at 14,340 hours per year.

Affected Public: State and local government, and food stamp households.

Estimated Number of Respondents: 676,053.

Number of Responses per Respondent: From 1 to 5.

Total Number of Annual Responses: 1,536,129.

Estimated Time per Response: 0.1074 hours.

Estimated Total Annual Burden: 164,994 hours.

Dated: May 25, 2001.
George A. Braley,
Acting Administrator, Food and Nutrition Service.

[FR Doc. 01-14153 Filed 6-5-01; 8:45 am]

BILLING CODE 3410-30-P